DEPARTMENT OF COMMERCE

National Oceanic and Atmospheric Administration

[RTID 0648-XA495]

Membership of the National Oceanic and Atmospheric Administration Performance Review Board

AGENCY: National Oceanic and Atmospheric Administration (NOAA), Commerce.

ACTION: Notice of membership of the NOAA Performance Review Board.

SUMMARY: NOAA announces the appointment of members who will serve on the NOAA Performance Review Board (PRB). The NOAA PRB is responsible for reviewing performance appraisals and ratings of Senior Executive Service (SES), Senior Level (SL), and Scientific and Professional (ST) members and making written recommendations to the appointing authority on retention and compensation matters, including performance-based pay adjustments, awarding of bonuses, and reviewing recommendations for potential Presidential Rank Award nominees. The appointment of members to the NOAA PRB will be for a period of 2 years.

DATES: The effective date of service of the 10 appointees to the NOAA Performance Review Board is October 15, 2020.

FOR FURTHER INFORMATION CONTACT: James Triem, Director, Executive Resources Division, Office of Human Capital Services, NOAA, 1305 East-West Highway, Silver Spring, Maryland 20910, (301) 628-1882.

SUPPLEMENTARY INFORMATION: The names and positions of the members for the 2020 NOAA PRB are set forth below:

• Mary S. Wohlgemuth, Chair: Director, National Centers for Environmental Information, National Environmental Satellite Data, and Information Service, NOAA

• Steven Thur, Co-Chair: Director, National Center for Coastal Ocean Services, National Ocean Service, NOAA

• Irene Parker: Assistant Chief Information Officer, National Environmental Satellite, Data, and Information Service, NOAA

• Kevin Kimball: Chief of Staff, National Institute of Standards and Technology

• James A. St. Pierre: Deputy Director, Information Technology Laboratory, National Institute of Standards and Technology

• David Holst: Chief Financial Officer, Office of Oceanic and Atmospheric Research, NOAA

• John S. Luce, Jr.: General Counsel, NOAA

• David Michaud: Director, Office of Central Processing, National Weather Service, NOAA

• Donna Whiting: Director, Office of Protected Resources, National Marine Fisheries Service, NOAA

• Deidre Jones: Chief Administrative Officer, Office of the Chief Administrative Officer, NOAA

• Michelle Mainelli-McInerney: Director, Office of Dissemination, National Weather Service, NOAA

• Christopher Oliver: Assistant Administrator for Marine Fisheries, National Marine Fisheries Service, NOAA

• Juliana Blackwell: Director, Office of National Geodetic Survey, National Ocean Services, NOAA

• Gary Matlock: Deputy Assistant Administrator for Services, Oceanic and Atmospheric Research, NOAA

Dated: September 30, 2020.
Sean Clayton,
Director, Office of Human Capital Services, National Oceanic and Atmospheric Administration.

[FR Doc. 2020-22002 Filed 10-5-20; 8:45 am]

BILLING CODE 3510-12-P